OVERSEAS PRIVATE INVESTMENT CORPORATION

Submission for OMB Review; Comment Request

AGENCY: Overseas Private Investment Corporation (OPIC).

ACTION: Request for comments.

SUMMARY: Under the provisions of the Paperwork Reduction Act (44 U.S.C. Chapter 35), Agencies are required to publish a Notice in the Federal Register notifying the public that the Agency has prepared an information collection request for OMB review and approval and has requested public review and comment on the submission. OPIC published its first Federal Register Notice on this information collection request on October 24, 2000, in 65 FR #0206, p. 63640, at which time a 60-calendar day comment period was announced. This comment period ended December 26, 2000. No comments were received in response to this Notice.

This information collection submission has now been submitted to OMB for review. Comments are again being solicited on the need for the information, its practical utility, the accuracy of the Agency's burden estimate, and on ways to minimize the reporting burden, including automated collection techniques and uses of other forms of technology. The proposed form under review is summarized below.

DATES: Comments must be received within 30 calendar days of this Notice.

ADDRESSES: Copies of the subject form and the request for review submitted to OMB may be obtained from the Agency Submitting Officer. Comments on the form should be submitted to the OMB Reviewer.

FOR FURTHER INFORMATION CONTACT:

OPIC Agency Submitting Officer: Carol Brock, Records Manager, Overseas Private Investment Corporation, 1100 New York Avenue, NW., Washington, DC 20527; 202/336-8563.

OMB Reviewer: David Rostker, Office of Information and Regulatory Affairs, Office of Management and Budget, New Executive Office Building, Docket Library, Room 10102, 725 17th Street, NW., Washington, DC 20503, 202/395-3897.

Summary of Form Under Review

Type of Request: New information collection.

Title: Political Risk Insurance Survey.

Form Number: OPIC 233.

Frequency of Use: Once per client.

Type of Respondents: Individual business officer representatives of business institutions.

Standard Industrial Classification Codes: All.

Description of Affected Public: U.S. companies or citizens investing overseas.

Reporting Hours: 1 hour per client.

Number of Responses: 480.

Federal Cost: $0.

Authority for Information Collection: Section 234A, of the Foreign Assistance Act of 1961, as amended.

Abstract (Needs and Uses): OPIC is sponsoring a survey to identify trends relating to its clients' experiences with political risk in emerging markets. The survey results will not only help OPIC identify new products and opportunities to fulfill its mandate to insure investments overseas against a broad range of political risks, but will also provide valuable information to the political risk insurance industry, thereby helping the industry to enhance its programs.

January 3, 2001.
Rumu Sarkar,
Assistant General Counsel, Department of Legal Affairs.

[FR Doc. 01-544 Filed 1-8-01 8:45 am]

BILLING CODE 3210-01-M